DEPARTMENT OF COMMERCE

National Institute of Standards and Technology

Announcement of a Meeting to Discuss an Opportunity To Join a Cooperative Research and Development Consortium on a NIST MEP eBusiness Demonstration Testbed

AGENCY: National Institute of Standards and Technology.

ACTION: Notice of public meeting.

SUMMARY: The National Institute of Standards and Technology (NIST) invites interested parties to attend a meeting on August 21, 2001 to discuss the possibility of setting up a cooperative research consortium. The objective of this consortium is to address interrelated technical and non-technical problems associated with the adoption of eBusiness practices and technologies by smaller U.S. manufacturing firms.

DATES: The meeting will take place on August 21 at 9 a.m. Interested parties should contact NIST to confirm their interest at the address, telephone number or FAX number shown below.

ADDRESSES: The meeting will take place in Building 101, Lecture Room B, National Institute of Standards and Technology, Gaithersburg, MD 20899-8422.

FOR FURTHER INFORMATION CONTACT: Dr. David C. Cranmer, Supply & Plant (301), Room C143, National Institute of Standards and Technology, Gaithersburg, MD 20899-0001. Telepnone: 301-975-5735; FAX: 301-926-3787; e-mail: david.cranner@nist.gov.

SUPPLEMENTARY INFORMATION: The National Institute of Standards and Technology's Manufacturing Extension Partnership (NIST MEP) has identified a number of interrelated technical and non-techical problems associated with the adoption of eBusiness practices and technologies by smaller U.S. manufacturing firms. The problems include but are not limited to lack of awareness of the requirements of original equipment manufacturers (OEMs) and others for adoption of some of these methodologies; the benefits, opportunities, and limitations of these practices and technologies; incompatibility and/or poor fit of applications with business processes used by smaller manufacturers; incompatibility of applications with one another with respect to data transfer, which frequently requires data to be reentered in subsequent applications; and authenticity/security of data and information systems. NIST MEP believes that these problems can be solved in part through the creation of an eBusiness demonstration testbed. The purpose of the testbed is to allow MEP Centers and manufacturing companies to experience high impact technologies integral to competing and succeeding in the electronic marketplace using a series of simulations reflective of different types and sophistications of virtual manufacturing companies, and be able to provide feedback to the testbed participants on these technologies and their use in various environments and conditions. This will provide improved knowledge of the needs of smaller U.S. manufacturers leading to improved tools, products and services, which will in turn enhance their global competitiveness.

NIST MEP has prepared a document of supplemental information about the testbed and its activities, the types of problems and approaches to solutions, selection criteria for inclusion in the testbed, provisions of cooperative research and development or other agreements, and the NIST MEP program. This document is available on the NIST MEP website (www.mep.nist.gov), or can be requested from NIST MEP by calling 301.975.5020, by fax at 301.975.6556, or by e-mail to testbed_manager@mep.nist.gov.

Dated: July 25, 2001.
Karen H. Brown,
Acting Director.

[FR Doc. 01-19056 Filed 7-30-01; 8:45 am]

BILLING CODE 3510-13-M